DEPARTMENT OF TRANSPORTATION

Surface Transportation Board

[STB Finance Docket No. 34658]

The Alaska Railroad Corporation—Petition for Exemption to Construct and Operate a Rail Line Between Eielson Air Force Base (North Pole) and Fort Greely (Delta Junction), Alaska

AGENCY: Surface Transportation Board, DOT.

ACTION: Notice of Intent to Prepare an Environmental Impact Statement, Notice of Availability of Draft Scope of Study for the Environmental Impact Statement, Notice of Scoping Meetings, and Request for Comments.

SUMMARY: The Alaska Railroad Corporation plans to file a petition with the Surface Transportation Board (Board) pursuant to 49 U.S.C. 10502 for authority to construct and operate a new rail line between Eielson Air Force Base (located south of Fairbanks) and the Delta Junction/Fort Greely area. The project would involve the construction and operation of approximately 80 miles of new main line track and could include an approximately 15-mile rail spur to the U.S. Air Force's Blair Lakes training area. Because the construction and operation of this project has the potential to result in significant environmental impacts, the Board's Section on Environmental Analysis (SEA) has determined that the preparation of an Environmental Impact Statement (EIS) is appropriate. The purpose of this Notice of Intent is to notify individuals and agencies interested in or affected by the proposed project of the decision to require an EIS. SEA is holding public scoping meetings as part of the EIS process. Additionally, as part of the scoping process, SEA has developed a draft Scope of Study for the EIS.

DATES AND LOCATIONS: Scoping meetings will be held on:

December 6, 2005, 4-8 pm at the City Council Chambers, 125 Snowman Lane, North Pole, Alaska

December 7, 2005, 4-8 pm at Jarvis West Building, Mile 1420.5 Alaska Highway, Delta Junction, Alaska

December 8, 2005, 4-8 pm at Lousaac Library Public Conference Room, 3600 Denali Street, Anchorage, Alaska

The public scoping meetings will be informal meetings in a workshop format during which interested persons may ask questions about the proposal and the Board's environmental review process, and advise the Board's representative about potential environmental effects of the project. In keeping with the workshop format of the scoping meetings, there will no formal presentations made by agency representatives. Rather, staff will be available to answer questions and receive comments individually. SEA has made available for public comment the draft Scope of Study contained in this notice.

The meeting locations comply with the Americans With Disabilities Act. Persons that need special accommodations should telephone SEA's toll-free number for the project at 1-800-359-5142.

SEA will issue a final Scope of Study after the close of the scoping comment period. Written comments on the Scope of Study and potential environmental effects of the project are due January 13, 2005.

Filing Environmental Comments: Interested persons and agencies are invited to participate in the EIS scoping process. Comments should be submitted to: Surface Transportation Board, Case Control Unit, 1925 K Street, NW., Washington, DC 20423-0001.

To ensure proper handling of your comments, please mark your submission: Attention: David Navecky, Environmental Filing.

Environmental comments may also be filed electronically on the Board's Web site, www.stb.dot.gov, by clicking on the “E-FILING” link. Please refer to STB Finance Docket No. 34658 in all correspondence, including e-filings, addressed to the Board.

SUPPLEMENTARY INFORMATION: Background: The proposed Northern Rail Extension Project includes construction of approximately 80 miles of new rail line connecting the existing rail line near Eielson AFB near North Pole, Alaska to a point near Fort Greely and the Donnelly Training Area near Delta Junction, Alaska. The proposed project could also include the construction of a 15-mile spur line from Flag Hill to the Blair Lakes Military Training Area. As a result of this project, the U.S. Army would have year round access to the Tanana Flats and Donnelly training areas and all the major military installations in Alaska would be accessible by rail through Fort Greely. The EIS will analyze the potential impacts of the proposed route, the “no-build” alternative and possible alternative routes.

Environmental Review Process: The National Environmental Policy Act (NEPA) process is intended to assist the Board and the public in identifying and assessing the potential environmental consequences of a proposed action before a decision on the proposed action is made. SEA is responsible for ensuring that the Board complies with NEPA and related environmental statutes. The first stage of the EIS process is scoping. Scoping is an open process for determining the scope of environmental issues to be addressed in the EIS. As part of the scoping process, SEA has developed, and is making available in today's notice, a draft Scope of Study for the EIS. Concurrently, scoping meetings will be held to provide further opportunities for public involvement and input during the scoping process. At the conclusion of the scoping and comment period, SEA will issue a final Scope of Study for the EIS.

After issuing the final Scope of Study, SEA will prepare a Draft EIS (DEIS) for the project. The DEIS will address those environmental issues and concerns identified during the scoping process. It will also contain SEA's preliminary recommendations for environmental mitigation measures. The DEIS will be made available upon its completion for review and comment by the public, government agencies and other interested parties. SEA will prepare a Final EIS (FEIS) that considers comments on the DEIS. In reaching its decision in this case, the Board will take into account the DEIS, the FEIS, and all environmental comments that are received.

SEA has recently invited several other Federal agencies to participate in this EIS process as cooperating agencies on the basis their special expertise or jurisdiction by law. These agencies include: U.S. Department of Defense, Alaskan Command; U.S. Department of Defense, U.S. Army Garrison—Alaska; U.S. Department of Defense, 354th Fighter Wing Command; U.S. Army Engineers District—Alaska; U.S. Department of Interior, Bureau of Land Management—Northern Field Office; U.S. Coast Guard, Seventeenth Coast Guard District; U.S. Department of Transportation, Federal Railroad Administration; and U.S. Department of Transportation, Federal Transit Administration—Region 10.

FOR FURTHER INFORMATION CONTACT: David Navecky, Section of Environmental Analysis, Surface Transportation Board, 1925 K Street, NW., Washington, DC 20423-0001, or call SEA's toll-free number for the project at 1-800-359-5142. Assistance for the hearing impaired is available through the Federal Information Relay Service (FIRS) at 1-800-877-8339. The website for the Surface Transportation Board is www.stb.dot.gov.

Draft Scope of Study for the EIS

Proposed Action and Alternatives

The proposed Northern Rail Extension Project includes construction of approximately 80 miles of new rail line connecting the existing rail line near Eielson AFB near North Pole, Alaska to a point near Fort Greely and the Donnelly Training Area near Delta Junction, Alaska. The proposed project could also include the construction of a 15-mile spur line from Flag Hill to the Blair Lakes Military Training Area. The proposed line would provide freight and passenger rail services for defense facilities, commercial interests, and communities in or near the project corridor. The proposed rail line would also provide the U.S. Army with year round access to the Tanana Flats and Donnelly training areas and all the major military installations in Alaska would be accessible by rail.

The reasonable and feasible alternatives that will be evaluated in the EIS are (1) construction and operation of the proposed project along the proposed alignments, (2) other alternatives that might be identified during the scoping process, and (3) the no-action alternative.

Environmental Impact Analysis

Proposed New Construction

Analysis in the EIS will address the proposed activities associated with the construction and operation of new rail facilities and their potential environmental impacts, as appropriate.

Impact Categories

The EIS will address potential impacts from the proposed construction and operation of new rail facilities on the human and natural environment. Impact areas addressed will include the categories of land use, biological resources, water resources, geology and soils, air quality, noise, energy resources, socioeconomics as they relate to physical changes in the environment, safety, transportation systems, cultural and historic resources, subsistence, recreation, aesthetics, and environmental justice. The EIS will include a discussion of each of these categories as they currently exist in the project area and will address the potential impacts from the proposed project on each category as described below:

1. Land Use

The EIS will:

a. Describe existing land use patterns within the project area and identify those land uses that would be potentially impacted by new rail line construction.

b. Describe the potential impacts associated with the proposed new rail line construction to land uses identified within the project area. Such potential impacts may include incompatibility with existing land uses, and conversion of land to railroad uses.

c. Propose mitigative measures to minimize or eliminate potential project impacts to land use, as appropriate.

2. Biological Resources

The EIS will:

a. Describe the existing biological resources within the project area, including vegetative communities, wildlife and fisheries, wetlands, and Federal and state threatened or endangered species and the potential impacts to these resources resulting from construction and operation of new rail facilities.

b. Describe any wildlife sanctuaries, refuges, and national or state parks, forests, or grasslands within the project area and the potential impacts to these resources resulting from construction and operation of new rail line.

c. Propose mitigative measures to minimize or eliminate potential project impacts to biological resources, as appropriate.

3. Water Resources

The EIS will:

a. Describe the existing surface water and groundwater resources within the project area, including lakes, rivers, streams, stock ponds, wetlands, and floodplains and the potential impacts on these resources resulting from construction and operation of new rail line.

b. Describe the permitting requirements for the proposed new rail line construction regarding wetlands, stream and river crossings, water quality, and erosion control.

c. Propose mitigative measures to minimize or eliminate potential project impacts to water resources, as appropriate.

4. Geology and Soils

The EIS will:

a. Describe the geology, soils, and permafrost found within the project area, including unique or problematic geologic formations or soils and prime farmland and hydric soils and the potential impacts on these resources resulting from the construction and operation of new rail line.

b. Describe measures employed to avoid or construct through unique or problematic geologic formations, soils, or permafrost.

c. Propose mitigative measures to minimize or eliminate potential project impacts to geology and soils, as appropriate.

5. Air Quality

The EIS will:

a. Evaluate rail-related air emissions, if the proposed project affects a Class I or non-attainment area as designated under the Clean Air Act.

b. Discuss and evaluate the potential air emissions increases from vehicle delays at new at-grade road/rail crossings. Emissions from vehicle delays will be factored into the emissions estimates for the affected area, as appropriate.

c. Describe the potential air quality impact resulting from new rail line construction activities.

d. Propose mitigative measures to minimize or eliminate potential project impacts to air quality, as appropriate.

6. Noise

The EIS will:

a. Describe the potential noise impacts during new rail line construction.

b. Describe the potential noise impacts of new rail line operation.

c. Propose mitigative measures to minimize or eliminate potential project impacts to sensitive noise receptors, as appropriate.

7. Energy Resources

The EIS will:

a. Describe the potential impact of the new rail line on the distribution of energy resources in the project area, including petroleum and gas pipelines and overhead electric transmission lines.

b. Propose mitigative measures to minimize or eliminate potential project impacts to energy resources, as appropriate.

8. Socioeconomics

The EIS will:

a. Describe the effects of a potential influx of construction workers and the potential increase in demand for local services interrelated with natural or physical environmental effects.

b. Propose mitigative measures to minimize or eliminate potential project adverse impacts to social and economic resources, as appropriate.

9. Safety

The EIS will:

a. Describe existing road/rail grade crossing safety and the potential for an increase in accidents related to the new rail operations, as appropriate.

b. Describe existing rail operations and the potential for increased probability of train accidents, as appropriate.

c. Describe hazardous materials safety factors for the transportation of hazardous materials and the potential for a release of those materials, as appropriate.

d. Describe the potential for disruption and delays to the movement of emergency vehicles due to new rail line construction and operation.

e. Propose mitigative measures to minimize or eliminate potential project impacts to safety, as appropriate.

10. Transportation Systems

The EIS will:

a. Describe the potential impacts of new rail line construction and operation on the existing transportation network in the project area, including vehicular delays at grade crossings.

b. Describe potential impacts to navigation associated with new bridges.

c. Propose mitigative measures to minimize or eliminate potential project impacts to transportation systems, as appropriate.

11. Cultural and Historic Resources

The EIS will:

a. Describe the potential impacts to historic structures or districts previously recorded and determined potentially eligible, eligible, or listed on the National Register of Historic Places within or immediately adjacent to the right-of-way for the proposed rail alignments.

b. Describe the potential impacts to archaeological sites previously recorded and either listed as unevaluated or determined potentially eligible, eligible, or listed on the National Register of Historic Places within the right-of-way for the proposed rail alignments.

c. Describe the potential impacts to historic structures or districts identified by ground survey and determined potentially eligible, eligible, or listed on the National Register of Historic Places within or immediately adjacent to the right-of-way for the proposed rail alignments.

d. Describe the potential impacts to archaeological sites identified by ground survey and determined potentially eligible, eligible, or listed on the National Register of Historic Places within the right-of-way for the proposed rail alignments.

e. Describe the potential general impacts to paleontological resources in the project area due to project construction, if necessary and required.

f. Propose mitigative measures to minimize or eliminate potential project impacts to cultural and historic resources, as appropriate.

12. Subsistence

The EIS will:

a. Describe the potential impacts of the proposed new rail line construction and operation on subsistence activities in the project area.

b. Propose mitigative measures to minimize or eliminate potential project impacts on subsistence activities, as appropriate.

13. Recreation

The EIS will:

a. Describe the potential impacts of the proposed new rail line construction and operation on recreational opportunities provided in the project area.

b. Propose mitigative measures to minimize or eliminate potential project impacts on recreational opportunities, as appropriate.

14. Aesthetics

The EIS will:

a. Describe the potential impacts of the proposed new rail line construction on any areas identified or determined to be of high visual quality.

b. Describe the potential impacts of the proposed new rail line construction on any waterways considered for or designated as wild and scenic.

c. Propose mitigative measures to minimize or eliminate potential project impacts on aesthetics, as appropriate.

15. Environmental Justice

The EIS will:

a. Describe the demographics in the project area and the immediate vicinity of the proposed new construction, including communities potentially impacted by the construction and operation of the proposed new rail line.

b. Evaluate whether new rail line construction or operation would have a disproportionately high and adverse impact on any minority or low-income groups.

c. Propose mitigative measures to minimize or eliminate potential project impacts on environmental justice populations, as appropriate.

16. Cumulative Impacts

The EIS will address the impact on the environment which results from the incremental impact of the action when added to other past, present, and reasonably foreseeable future actions regardless of what agency (Federal or non-federal) or person undertakes such actions.

Decided: October 26, 2005.
By the Board, Victoria Rutson, Chief, Section of Environmental Analysis.
Vernon A. Williams,
Secretary.

[FR Doc. 05-21718 Filed 10-31-05; 8:45 am]

BILLING CODE 4915-00-P